DEPARTMENT OF COMMERCE

International Trade Administration

[A-580-807]

Polyethylene Terephthalate Film Sheet, and Strip From Korea; Notice of Rescission of Antidumping Duty Administrative Review

AGENCY: Import Administration, International Trade Administration, Department of Commerce.

ACTION: Notice of rescission of the antidumping duty administrative review.

SUMMARY: On July 23, 2001, in response to requests by Hyosung Corporation (Hyosung) and H.S. Industries (HSI), the Department of Commerce (the Department) published a notice of initiation of antidumping duty administrative review of Polyethylene Terephthalate Film, Sheet and Strip from Korea, for the period June 1, 2000 through May 31, 2001. See Initiation of Antidumping and Countervailing Duty Administrative Reviews and Requests for Revocation in Part, 66 FR 38252 (July 23, 2001). Hyosung has timely withdrawn its request for review; therefore, the Department is rescinding this review with respect to Hyosung in accordance with the withdrawal of their request for review. Furthermore, the Department revoked the order with respect to HSI subsequent to initiating this review. It would be inappropriate for the Department to continue to review entries of the subject merchandise by HSI. Therefore, the Department is rescinding this review with respect to HSI.

EFFECTIVE DATE: December 27, 2001.

FOR FURTHER INFORMATION CONTACT: Michael J. Heaney or Robert James, Enforcement Group III, Office 8, Import Administration, International Trade Administration, U.S. Department of Commerce, 14th Street and Constitution Avenue, NW., Washington, DC 20230; telephone (202) 482-4475 and (202) 482-0649, respectively.

SUPPLEMENTARY INFORMATION:

Applicable Statute and Regulations

Unless otherwise indicated, all citations to the Tariff Act of 1930, as amended (the Tariff Act), are references to the provisions effective January 1, 1995, the effective date of the Uruguay Round Agreements Act. In addition, unless otherwise indicated, all citations to the Department's regulations are to the regulations codified at 19 CFR part 351 (2001).

Background

On June 5, 1991 the Department published the antidumping duty order on polyethylene terephthalate film, sheet and strip from Korea. See Antidumping Duty Order and Amendment to Final Determination of Less Than Fair Value: Polyethylene Terephthalate Film, Sheet and Strip from the Republic of Korea, 56 FR 25660 (June 5, 1991). On June 29, 2001, HSI and Hyosung, producers of the subject merchandise, requested that the Department conduct an administrative review of their respective sales for the period June 1, 2001 through May 31, 2001. There were no other requests for review. On July 23, 2001, the Department published a notice of initiation of antidumping duty administrative review of polyethylene terephtalate film, sheet and strip from Korea, in accordance with 19 CFR 351.221(c)(1)(i). See Initiation of Antidumping and Countervailing Duty Administrative Reviews and Requests for Revocation in Part, 66 FR 38252 (July 23, 2001). On August 7, 2001, Hyosung withdrew its request for review. On November 15, 2001, we revoked the order with respect to HSI. (See Polyethylene Terephthalate, Film, Sheet, and Strip from Korea: Final Results of Antidumping Duty Administrative Review and Revocation in Part 66 FR 57417 (November 15, 2001)).

Rescission of Review

The Department's regulations provide that the Department will rescind an administrative review “if a party that requested the review withdraws the request within 90 days of the date of publication of notice of initiation of the requested review.” See 19 CFR 351.213(d)(1). Hyosung's withdrawal of its request for review was within the 90-day time limit. Therefore, the Department is rescinding this review with respect to Hyosung in accordance with 19 CFR 351.213(d)(1).

As a result of Hyosung's withdrawal of its request for review, the revocation of the order with respect to HSI, and because the Department received no other requests for review, the Department is rescinding the administrative review for the period June 1, 2000 through May 31, 2001, and will issue appropriate assessment instructions to the U.S. Customs Service.

This notice serves as a reminder to parties subject to administrative protective order (APO) of their responsibility concerning the disposition of proprietary information disclosed under APO in accordance with 19 CFR 351.305(a)(3). Timely written notification of the return or destruction of APO materials or conversion to judicial protective order is hereby requested. Failure to comply with the regulations and terms of an APO is a sanctionable violation.

This determination is issued and published in accordance with 19 CFR 351.213(d)(4) and sections 751(a)(1) and 777(i)(1) of the Tariff Act.

Dated: December 19, 2001.
Barbara E. Tillman,
Acting Deputy Assistant Secretary for Import Administration, Group III.

[FR Doc. 01-31837 Filed 12-26-01; 8:45 am]

BILLING CODE 3510-DS-P